FEDERAL MARITIME COMMISSION

Ocean Transportation Intermediary License Applicant

Notice is hereby given that the following applicants have filed with the Federal Maritime Commission an application for licenses as Non-Vessel Operating Common Carrier and Ocean Freight Forwarder—Ocean Transportation Intermediary pursuant to section 19 of the Shipping Act of 1984 as amended (46 U.S.C. app. 1718 and 46 CFR Part 515).

Persons knowing of any reason why the following applicants should not receive a license are requested to contact the Office of Transportation Intermediaries, Federal Maritime Commission, Washington, D.C. 20573.

Non-Vessel Operating Common Carrier and Ocean Freight Forwarder Transportation Intermediary Applicants:

D & W Millennium Freight Systems, Inc., 156-15 146th Avenue, Suite 206, Jamaica, NY 11434, Officer: Donald K. Poon, President (Qualifying Individual)

Green Integrated Logistics, Inc., 19750 Magellan Drive, #W, Torrance, CA 90502, Officers: Sung II Chung, Vice President, (Qualifying Individual), Won Kyung Kim, President

Independence Shipping Lines, Ltd., 1020 Christina Avenue, Building 23, Wilmington, DE 19801, Officers: Dulce B. McCauley, Sen. Vice President (Qualifying Individual), Daniel S. Cabellos, President

Ocean Freight Forwarders—Ocean Transportation Intermediary Applicants:

Chemo International Inc., 8100 N.W. 68th Street, Miami, FL 33166, Officers: Hugo Monterroso, Asst. Secretary (Qualifying Individual), Robert Sajet, President

Embassy Freight International L.L.C., 1590 Phoenix Blvd., Suite 240, Atlanta, GA 30349, Officers: Vince Landy, Joint Managing Partner (Qualifying Individual), Brett Reddall, Joint Managing Partner

Exim Forwarding, Inc., 440 Benmar, Suite 2100, Houston, TX, 77080-3171, Officer: Janice K. Rydlund, Vice President (Qualifying Individual)

Friendly Forwarders, Inc., 316 Miracle Mile, Suite 2, Coral Gables, FL 33134, Officers: Mariana Gonzalez, Vice President (Qualifying Individual), Francisco Tamargo, President

Dated: May 12, 2000.
Bryant L. VanBrakle,
Secretary.

[FR Doc. 00-12430 Filed 5-16-00; 8:45 am]

BILLING CODE 6730-01-U